DEPARTMENT OF THE INTERIOR

National Park Service

[NPS-WASO-NAGPRA-NPS0033559; PPWOCRADN0-PCU00RP14.R50000]

Notice of Intent To Repatriate Cultural Items: U.S. Department of the Interior, National Park Service, Tuzigoot National Monument, Clarkdale, AZ; Correction

AGENCY: National Park Service, Interior.

ACTION: Notice; correction.

SUMMARY: The U.S. Department of the Interior, National Park Service, Tuzigoot National Monument (Tuzigoot National Monument) has corrected a Notice of Intent to Repatriate published in the Federal Register on June 25, 2021. This notice corrects the number of unassociated funerary objects. Lineal descendants or representatives of any Indian Tribe or Native Hawaiian organization not identified in this notice that wish to claim these cultural items should submit a written request to Tuzigoot National Monument. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Tuzigoot National Monument at the address in this notice by April 18, 2022.

FOR FURTHER INFORMATION CONTACT: Lloyd Masayumptewa, Superintendent, Tuzigoot National Monument, P.O. Box 219, Camp Verde, AZ 86322, telephone (928) 567-5276, email Lloyd_Masayumptewa@nps.gov.

SUPPLEMENTARY INFORMATION: Notice is here given in accordance with the Native American Graves Protection and Repatriation Act (NAGPRA), 25 U.S.C. 3005, of the intent to repatriate cultural items under the control of the U.S. Department of the Interior, National Park Service, Tuzigoot National Monument, Clarkdale, AZ, that meet the definition of unassociated funerary objects under 25 U.S.C. 3001.

This notice is published as part of the National Park Service's administrative responsibilities under NAGPRA, 25 U.S.C. 3003(d)(3). The determinations in this notice are the sole responsibility of the Superintendent, Tuzigoot National Monument.

This notice corrects the number of unassociated funerary objects published in a Notice of Intent to Repatriate in the Federal Register on June 25, 2021 (86 FR 33736-33737, June 25, 2021). During preparation for repatriation, it was discovered that two objects had been inadvertently omitted from the published notice. Transfer of control of the items in this correction notice has not occurred.

Correction

In the Federal Register (86 FR 33736, June 25, 2021), column 3, paragraph 6 under the heading “History and Description of the Cultural Items,” is corrected by substituting the following paragraph:

Between 1933-1934, 18 cultural items were removed from Hatalacva Pueblo in Yavapai County, AZ. The 18 unassociated funerary objects are 14 bowls, one pendant, one cup, one necklace, and one awl.

In the Federal Register (86 FR 33737, June 25, 2021), column 1, paragraph 1 is corrected by substituting the following paragraph:

Between 1933-1934, 7,172 cultural items were removed from Tuzigoot Pueblo in Yavapai County, AZ. The 7,172 unassociated funerary objects are one bow, two basketry fragments, one spindle whorl, two axes, one crystal, one prayer stick, 19 dendrochronology samples, 14 jars, 84 bowls, four miniature bowls, four pitchers, four ladles, one miniature jar, 6,969 beads, 12 pendants, 19 bracelets, three unworked shells, eight projectile points, six necklaces, five rings, four worked shells, one worked sherd, two worked bones, two drills, two unworked bones, and one pigment.

In the Federal Register (86 FR 33737, June 25, 2021), column 2, paragraphs 1 and 2 are corrected by substituting the following paragraphs:

Pursuant to 25 U.S.C. 3001(3)(B), the 8,086 cultural items described above are reasonably believed to have been placed with or near individual human remains at the time of death or later as part of the death rite or ceremony and are believed, by a preponderance of the evidence, to have been removed from a specific burial site of a Native American individual.

Pursuant to 25 U.S.C. 3001(2), there is a relationship of shared group identity that can be reasonably traced between the 8,086 unassociated funerary objects and the Hopi Tribe of Arizona.

Additional Requestors and Disposition

Lineal descendants or representatives of any Indian Tribe or Native Hawaiian organization not identified in this notice that wish to claim these cultural items should submit a written request with information in support of the claim to Lloyd Masayumptewa, Superintendent, Tuzigoot National Monument, P.O. Box 219, Camp Verde, AZ 86322, telephone (928) 567-5276, email Lloyd_Masayumptewa@nps.gov, by April 18, 2022. After that date, if no additional claimants have come forward, transfer of control of the unassociated funerary objects to the Hopi Tribe of Arizona may proceed.

The U.S. Department of the Interior, National Park Service, Tuzigoot National Monument is responsible for notifying the Ak-Chin Indian Community [previously listed as the Ak Chin Indian Community of the Maricopa (Ak Chin) Indian Reservation, Arizona]; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Apache Nation of the Camp Verde Indian Reservation, Arizona; Yavapai-Prescott Indian Tribe [previously listed as Yavapai-Prescott Tribe of the Yavapai Reservation, Arizona]; and the Zuni Tribe of the Zuni Reservation, New Mexico that this notice has been published.

Dated: March 9, 2022.
Melanie O'Brien,
Manager, National NAGPRA Program.

[FR Doc. 2022-05628 Filed 3-16-22; 8:45 am]

BILLING CODE 4312-52-P